DEPARTMENT OF THE INTERIOR

Bureau of Land Management

[LLOROR957000-L14200000-BJ000: HAG09-0003]

Filing of Plats of Survey: Oregon/Washington

AGENCY: U.S. Department of the Interior, Bureau of Land Management.

ACTION: Notice.

SUMMARY: The plats of survey of the following described lands were officially filed in the Bureau of Land Management Oregon/Washington State Office, Portland, Oregon, on June 18, 2008.

Willamette Meridian

Washington

T. 23 N., R. 13 W., accepted May 14, 2008.

Oregon

T. 2 S., R. 6 W., accepted May 21, 2008.

The plats of survey of the following described lands were officially filed in the Bureau of Land Management Oregon/Washington State Office, Portland, Oregon, on August 19, 2008.

Willamette Meridian

Washington

T. 12 N., R. 19 E., accepted July 2, 2008.

The plats of survey of the following described lands were officially filed in the Bureau of Land Management Oregon/Washington State Office, Portland, Oregon, on September 26, 2008.

Willamette Meridian

Washington

T. 33 N., R. 28 E., accepted August 18, 2008.

Oregon

T. 36 S., R. 5 W., accepted August 7, 2008.

T. 33 S., R. 2 E., accepted August 20, 2008.

T. 33 S., R. 1 E., accepted August 20, 2008.

T. 20 S., R. 6 W., accepted August 26, 2008.

T. 40 S., R. 7 W., accepted September 2, 2008.

T. 12 S., R. 43 E., accepted September 2, 2008.

A copy of the plats may be obtained from the Land Office at the Oregon/Washington State Office, Bureau of Land Management, 333 SW. 1st Avenue, Portland, Oregon 97204, upon required payment. A person or party who wishes to protest against a survey must file a notice that they wish to protest (at the above address) with the Oregon/Washington State Director, Bureau of Land Management, Portland, Oregon.

For further information contact: Chief, Branch of Geographic Sciences, Bureau of Land Management, (333 SW. 1st Avenue) P.O. Box 2965, Portland, Oregon 97208.

Dated: October 8, 2008.
Fred O'Ferrall,
Branch of Lands and Minerals Resources.

[FR Doc. E8-24837 Filed 10-17-08; 8:45 am]

BILLING CODE 4310-33-P